DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2009.

Interested persons are invited to submit written comments regarding the subject matter of the investigations to the Director, Division of Trade Adjustment Assistance, at the address shown below, not later than November 16, 2009.

The petitions filed in this case are available for inspection at the Division of Trade Adjustment Assistance, Employment and Training Administration, U.S. Department of Labor, Room N-5428, 200 Constitution Avenue, NW., Washington, DC 20210.

Signed at Washington, DC, this 26th day of October 2009.
Richard Church,
Certifying Officer, Division of
Trade Adjustment Assistance.

Appendix
[TAA petitions instituted between 9/28/09 and 10/2/09]
TA-W | Subject firm (petitioners) | Location | Date of institution | Date of petition
72418 | Western Union (State) | Montvale, NJ | 09/28/09 | 09/01/09
72419 | INVISTA, S.a.r.l. (Wkrs) | Athens, GA | 09/28/09 | 09/22/09
72420 | General Motors Lordstown Complex (Union) | Warren, OH | 09/28/09 | 09/25/09
72421 | Karl Schmidt Unisia, Inc. (Comp) | Fort Wayne, IN | 09/28/09 | 09/25/09
72422 | Little Buses Transport (Wkrs) | St. David, ME | 09/28/09 | 09/23/09
72423 | Harmon Cadillac, Inc. (Comp) | Dayton, OH | 09/28/09 | 09/23/09
72424 | Momentive Performance Materials Inc. (Union) | Willoughby, OH | 09/28/09 | 09/25/09
72425 | Duro-Life Corporation (Wkrs) | Algonquin, IL | 09/28/09 | 09/25/09
72426 | The Lexington Herald Leader (Wkrs) | Lexington, KY | 09/28/09 | 09/24/09
72427 | Devon Energy Corporation (Wkrs) | Houston, TX | 09/28/09 | 09/26/09
72428 | Multiserv (Wkrs) | Warren, OH | 09/28/09 | 09/28/09
72429 | Archway Onsite at Microsoft (Comp) | Fargo, ND | 09/29/09 | 09/21/09
72430 | Douglas Battery Manufacturing Company (Wkrs) | Winston-Salem, NC | 09/29/09 | 09/08/09
72431 | LexisNexis, a division of Reed Elsevier, Inc. (Comp) | Albany, NY | 09/29/09 | 09/28/09
72432 | LexisNexis, a division of Reed Elsevier, Inc. (Comp) | Miamisburg, OH | 09/29/09 | 09/28/09
72433 | LexisNexis, a division of Reed Elsevier, Inc. (Comp) | New Providence, NJ | 09/29/09 | 09/28/09
72434 | Ford Motor Company (State) | Dearborn, MI | 09/29/09 | 09/07/09
72435 | TTM Technologies (Comp) | Union City, CA | 09/29/09 | 09/28/09
72436 | Special Tool & Engineering, Inc. (State) | Fraser, MI | 09/29/09 | 09/07/09
72437 | Copa Tool, Inc. (State) | South Lyon, MI | 09/29/09 | 09/07/09
72438 | Ternium USA, Inc. (Comp) | Shreveport, LA | 09/29/09 | 09/28/09
72439 | Glaxo Smith Kline Consumer Healthcare (State) | Parsippany, NJ | 09/29/09 | 09/28/09
72440 | Wheatland Tube Company (Union) | Sharon, PA | 09/29/09 | 09/28/09
72441A | Insteel Wire Products Company (Comp) | Gallatin, TN | 09/30/09 | 09/29/09
72441 | Insteel Wire Products Company (Comp) | Sanderson, FL | 09/30/09 | 09/29/09
72442 | Unisys (Wkrs) | Plymouth, MI | 09/30/09 | 09/11/09
72443 | Parker Paint Manufacturing Company, Inc. (Comp) | Tacoma, WA | 09/30/09 | 09/17/09
72444 | ToPPan Photomasks, Inc. (Wkrs) | Santa Clara, CA | 09/30/09 | 09/23/09
72445 | Ven Ply, Inc. (Wkrs) | High Point, NC | 09/30/09 | 09/29/09
72446 | White & Green Motors/KPH Enterprises (State) | Eaton Rapids, MI | 09/30/09 | 09/10/09
72447 | Cadmus Communications (Wkrs) | Columbus, OH | 09/30/09 | 09/24/09
72448 | Karastan, Division of Mohawk Industries (Comp) | Eden, NC | 09/30/09 | 09/25/09
72449 | Dalure Fashions, Inc. (Wkrs) | Gatesville, NC | 09/30/09 | 09/30/09
72450 | Hope Global of Detroit (Wkrs) | Detroit, MI | 09/30/09 | 09/29/09
72451 | Allianz Life of North America—IBM Consultants (State) | Golden Valley, MN | 09/30/09 | 09/29/09
72452 | Bassett Mirror Company, Inc. (Comp) | Bassett, VA | 09/30/09 | 09/29/09
72453 | Perot Systems (Wkrs) | Plano, TX | 09/30/09 | 09/28/09
72454 | Columbin St. Mary's Health System (Wkrs) | Glendale, WI | 09/30/09 | 09/29/09
72455 | Erath Veneer Corporation of Virginia (Comp) | Rocky Mount, VA | 09/30/09 | 09/25/09
72456 | Applied Extrusion Technologies (Comp) | Terre Haute, IN | 09/30/09 | 09/24/09
72457 | Datamatics Technology (Wkrs) | Livonia, MI | 09/30/09 | 09/24/09
72458 | Veeder Root Company (Union) | Altoona, PA | 09/30/09 | 09/21/09
72459 | Lawrence County Department of Jobs and Family (Wkrs) | Ironton, OH | 09/30/09 | 09/22/09
72460 | Ranch Life Plastics, Inc. (Wkrs) | Eaton Rapids, MI | 09/30/09 | 09/23/09
72461 | FutureWei Technology (Wkrs) | Plano, TX | 09/30/09 | 09/15/09
72462 | Cardinal Health (Comp) | Ontario, CA | 09/30/09 | 09/24/09
72463 | Draexlmaler DAA (State) | Duncan, SC | 10/01/09 | 09/29/09
72464 | The Dow Chemical Company (Allyn's Point Site) (Comp) | Gales Ferry, CT | 10/01/09 | 09/29/09
72465 | BBi Enterprises Group, Inc. (Union) | Holland, MI | 10/01/09 | 09/30/09
72466 | Closure Medical Company (Wkrs) | Raleigh, NC | 10/01/09 | 09/30/09
72467 | Advanta Bank Corporation (State) | Draper, UT | 10/01/09 | 09/28/09
72468 | EDAG, Inc. (Comp) | Auburn Hills, MI | 10/01/09 | 09/30/09
72469 | Senstar, Inc. (Wkrs) | Fremont, CA | 10/01/09 | 09/30/09
72470 | McKenzie Foam & Supply (Wkrs) | McKenzie, TN | 10/01/09 | 09/30/09
72471 | The Walker Auto Group, Inc. (State) | Miamisburg, OH | 10/01/09 | 09/30/09
72472 | Crane Merchandising Systems (Wrks) | Bridgeton, MO | 10/01/09 | 09/30/09
72473 | Rockwell Automation (Comp) | Dublin, GA | 10/01/09 | 09/30/09
72474 | Marco Manufacturing (Comp) | Akron, OH | 10/01/09 | 09/30/09
72475 | A. E. Staley (Comp) | Houlton, ME | 10/01/09 | 09/30/09
72476 | Shippers Products (Comp) | Mt. Pleasant, TN | 10/01/09 | 09/29/09
72477 | Peterbilt Motors Company (AFL-CIO) | Madison, TN | 10/01/09 | 09/30/09
72478 | Hanson Trucking (Comp) | Columbia Falls, MT | 10/01/09 | 09/30/09
72479 | Duro-Life (Wrks) | Woodstock, IL | 10/01/09 | 09/25/09
72480 | InterDent Service Corporation (Comp) | Vancouver, WA | 10/02/09 | 09/29/09
72481 | Fulton Manufacturing Industries, LLC (Comp) | Brecksville, OH | 10/02/09 | 10/02/09
72482 | Gemstone Systems, Inc. (State) | Beaverton, OR | 10/02/09 | 10/01/09
72483 | Maysteel, LLC (Comp) | Menomonee Falls, WI | 10/02/09 | 09/21/09
72484 | Nachi Machining Technology Company (Wkrs) | Macomb, MI | 10/02/09 | 09/30/09
72485 | Convergys (State) | Appleton, WI | 10/02/09 | 10/01/09
72486 | Valero (Union) | San Antonio, TX | 10/02/09 | 10/01/09
72487 | J P Morgan Chase Bank (Wrks) | Belleville, MI | 10/02/09 | 10/01/09
72488 | GM Moraine Assembly (Wrks) | Moraine, OH | 10/02/09 | 09/02/09
72489 | Northern Engravin Luxco Tool Division (Union) | La Crosse, WI | 10/02/09 | 10/01/09

[FR Doc. E9-26565 Filed 11-4-09; 8:45 am]

BILLING CODE 4510-FN-P